DEPARTMENT OF THE TREASURY

Internal Revenue Service

Open meeting of the Taxpayer Advocacy Panel Volunteer Income Tax Assistance (VITA) Issue Committee

AGENCY: Internal Revenue Service (IRS) Treasury.

ACTION: Cancellation notice.

SUMMARY: An open meeting of the Taxpayer Advocacy Panel VITA Issue Committee has been cancelled. The Taxpayer Advocacy Panel solicits public comment, ideas, and suggestions on improving customer service at the Internal Revenue Service.

DATES: The meeting scheduled for Tuesday, October 2, 2007, at Noon Eastern Time has been cancelled.

FOR FURTHER INFORMATION CONTACT: Barbara Foley at 1-888-912-1227, or (414) 231-2360.

SUPPLEMENTARY INFORMATION: Notice is hereby given pursuant to section 10(a)(2) of the Federal Advisory Committee Act, 5 U.S.C. App. (1988) that a meeting of the Taxpayer Advocacy Panel VITA Issue Committee scheduled for Tuesday, October 2, 2007, at Noon, Eastern Time via a telephone conference call has been cancelled. The meeting was originally published on Friday, September 14, 2007. You can still submit written comments to the panel by faxing to (414) 231-2363, or by mail to Taxpayer Advocacy Panel, Stop 1006MIL, 211 West Wisconsin Avenue, Milwaukee, WI 53203-2221, or you can contact us at http://www.improveirs.org. Please contact Barbara Foley at 1-888-912-1227 or (414) 231-2360 for additional information.

Dated: October 1, 2007.
Sandra L. McQuin,
Acting Director, Taxpayer Advocacy Panel.

[FR Doc. E7-19971 Filed 10-10-07; 8:45 am]

BILLING CODE 4830-01-P